FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 008005-008.

Title: New York Terminal Conference Agreement.

Parties: American Stevedoring Inc., Port Newark Container Terminal L.L.C., Universal Maritime Service Corp.

Synopsis: The amendment restates the agreement and updates the list of the current members.

Agreement No.: 011493-003.

Title: C&S Shipping Joint Service Agreement.

Parties: LauritzenCool AB, Seatrade Group N.V.

Synopsis: The proposed agreement modification would authorize the parties to operate as a joint service in the trade from Australian ports to U.S. ports.

Agreement No.: 011665-003.

Title: Specialized Reefer Shipping Association.

Parties: LauritzenCool AB, NYK Star Reefers Limited, Seatrade Group N.V.

Synopsis: Nippon Yusen Kaisha is replaced by NYK Star Reefers Limited as member and LauritzenCool's address is updated.

Agreement No.: 011791.

Title: COSCON/KL/YMUK/Hanjin/Senator Asia/U.S. Pacific Coast Slot Exchange Agreement.

Parties: COSCO Container Lines Company, Limited, Kawasaki Kisen Kaisha, Ltd., Yangming (UK), Ltd., Hanjin Shipping Co., Ltd., Senator Lines GmbH.

Synopsis: The proposed agreement authorizes the parties to charter container space to and from each other and rationalize port calls and sailings in the trade between the U.S. Pacific Coast and Japan, Korea, China, Taiwan, Singapore, Malaysia, the Philippines, Vietnam, Thailand, India, Sri Lanka, Pakistan, and Bangladesh. This agreement will replace several existing vessel-sharing agreements between and among the parties.

By Order of the Federal Maritime Commission.
Dated: March 1, 2002.
Theodore A. Zook,
Assistant Secretary.

[FR Doc. 02-5360 Filed 3-6-02; 8:45 am]

BILLING CODE 6730-01-P